NUCLEAR REGULATORY COMMISSION

[Docket Nos. 50-335 and 50-389; NRC-2021-0144]

Florida Power and Light Company; NextEra Energy; St. Lucie Plant, Units 1 and 2

AGENCY: Nuclear Regulatory Commission.

ACTION: Subsequent license renewal application; receipt.

SUMMARY: The U.S. Nuclear Regulatory Commission (NRC) has received an application for the subsequent renewal of Renewed Facility Operating License Nos. DPR-67 and NPF-16, which authorize Florida Power and Light Company (FPL or the applicant) to operate St. Lucie Plant (SLP), Units 1 and 2. The subsequent renewed licenses would authorize the applicant to operate SLP for an additional 20 years beyond the period specified in each of the current renewed licenses. The current renewed operating licenses for SLP expire as follows: Unit 1 on March 1, 2036, and Unit 2 on April 6, 2043.

DATES: The subsequent license renewal application referenced in this document became available on August 9, 2021.

ADDRESSES: Please refer to Docket ID NRC-2021-0144 when contacting the NRC about the availability of information regarding this document. You may obtain publicly available information related to this document using any of the following methods:

• Federal Rulemaking Website: Go to https://www.regulations.gov and search for Docket ID NRC-2021-0144. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and purchase copies of public documents, is currently closed. You may submit your request to the PDR via email at pdr.resource@nrc.gov or call 1-800-397-4209 or 301-415-4737, between 8:00 a.m. and 4:00 p.m. (ET), Monday through Friday, except Federal holidays.

• Public Library: A copy of the subsequent license renewal application for SLP can be accessed at the following public libraries:

• St. Lucie County Library—Morningside Branch, 2410 SE Morningside Blvd., Port St. Lucie, FL 34952; and

• St. Lucie County Library—Kilmer Branch, 101 Melody Lane, Fort Pierce, FL 34950.

FOR FURTHER INFORMATION CONTACT: Lois James, Office of Nuclear Reactor Regulation, U.S. Nuclear Regulatory Commission, Washington, DC 20555-0001; telephone: 301-415-3306; email: Lois.James@nrc.gov.

SUPPLEMENTARY INFORMATION: The NRC has received an application (ADAMS Package Accession No. ML21215A314) from FPL, dated August 3, 2021, filed pursuant to Section 103 of the Atomic Energy Act of 1954, as amended, and Part 54 of title 10 of the Code of Federal Regulations, “Requirements for Renewal of Operating Licenses for Nuclear Power Plants,” to renew the operating licenses for SLP. Subsequent renewal of the licenses would authorize the applicant to operate the facility for an additional 20-year period beyond the period specified in the respective current renewed operating licenses. The current renewed operating licenses for SLP expire as follows: Unit 1 on March 1, 2036, and Unit 2 on April 6, 2043. The SLP units are Pressurized Water Reactors located in St. Lucie County, Florida. The acceptability of the tendered application for docketing, and other matters, including an opportunity to request a hearing, will be the subject of subsequent Federal Register notices.

Dated: August 10, 2021.
For the Nuclear Regulatory Commission.
Lauren K. Gibson,
Chief, License Renewal Project Branch, Division of New and Renewed Licenses, Office of Nuclear Reactor Regulation.

[FR Doc. 2021-17416 Filed 8-13-21; 8:45 am]

BILLING CODE 7590-01-P